DEPARTMENT OF ENERGY

Federal Energy Regulatory Commission

[Docket No. IC24-7-000]

Commission Information Collection Activities (FERC-512) Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC-512 (Preliminary Permit). The 60-day notice comment period ends on April 8, 2024, no comments were received.

DATES: Comments on the collection of information are due May 23, 2024.

ADDRESSES: Send written comments on FERC-512 to OMB through www.reginfo.gov/public/do/PRAMain. Attention: Federal Energy Regulatory Commission Desk Officer. Please identify the OMB Control Number (1902-0073) in the subject line of your comments. Comments should be sent within 30 days of publication of this notice to www.reginfo.gov/public/do/PRAMain.

Please submit copies of your comments to the Commission. You may submit copies of your comments (identified by Docket No. IC24-07-000) by one of the following methods:

Electronic filing through https://www.ferc.gov, is preferred.

• Electronic Filing: Documents must be filed in acceptable native applications and print-to-PDF, but not in scanned or picture format.

• For those unable to file electronically, comments may be filed by USPS mail or by other delivery methods:

○ Mail via U.S. Postal Service Only: Federal Energy Regulatory Commission, Secretary of the Commission, 888 First Street NE, Washington, DC 20426.

○ All other delivery methods: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov/ferc-online/overview. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-512, Preliminary Permit.

OMB Control No.: 1902-0073.

Type of Request: Three-year approval of the FERC-512 information collection requirements, with no changes to the current reporting requirements.

Abstract: Sections 4(f) and 5(b) of the Federal Power Act authorize the Commission to issue a preliminary permit for a term of up to four years, extend a permit term once for not more than four additional years, and issue an additional permit after the end of an extension period.¹ The FERC-512 is an application for a preliminary permit or to extend a preliminary permit term. The purpose of obtaining a preliminary permit is to maintain priority status for an application for a license while the applicant conducts site examinations and surveys to inform a decision on whether to pursue a license for the project, and if so, prepare a license application. A preliminary permit neither authorizes construction of any facilities, nor provides the use of eminent domain to acquire lands for the project. No application for a preliminary permit or license submitted by another party can be accepted during the permit term.

¹ 16 U.S.C. 802 and 16 U.S.C. 798(b)(1).

Commission staff review preliminary permit applications to assess the scope of the proposed project, the technology to be used, and jurisdictional aspects of the project. The staff assessment includes a review of the proposed hydro development for conflicts with other current permits or licensed projects, and issuance of public notice of the permit application to solicit public and agency comments. An application for a preliminary permit includes the applicant's name and contact information, a description of the proposed project, the requested term of the permit, names and addresses of the affected political jurisdictions, a verification of the application's facts, and three exhibits, per 18 CFR 4.81.

Type of Respondents: Business or other for-profit and not-for-profit entities.

Estimate of Annual Burden ² and Cost:³ The Commission estimates as shown below in the table:

² Burden is defined as the total time, effort, or financial resources expended by persons to generate, maintain, retain, or disclose or provide information to or for a Federal agency. For further explanation of what is included in the information collection burden, refer to 5 CFR 1320.3.

³ Commission staff estimates that the industry's skill set and cost (for wages and benefits) for FERC-512 are approximately the same as the Commission's average cost. The FERC 2024 average salary plus benefits for one FERC full-time equivalent (FTE) is $207,787/year (or $100/hour).

FERC-512: (Preliminary Permit)
| Number of respondents | Annual number of responses per respondent | Total number of responses | Average burden hours & cost per response | Total annual burden hours & total annual cost | Average annual cost per respondent
| (1) | (2) | (1) * (2) = (3) | (4) | (3) * (4) = (5) | (5) ÷ (1)
Annual Reporting and Recordkeeping | 65 | 1 | 65 | 24 hrs.; $2,400 | 1,560 hrs.; $156,000 | $2,400
TOTAL FERC-512 | 65 | 1 | 65 | 24 hrs.; $2,400 | 1,560 hrs.; $156,000 | 2,400

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 17, 2024.
Debbie-Anne A. Reese,
Acting Secretary.

[FR Doc. 2024-08626 Filed 4-22-24; 8:45 am]

BILLING CODE 6717-01-P